DEPARTMENT OF DEFENSE

Department of the Army

Availability for Non-Exclusive, Exclusive, or Partially Exclusive Licensing of U.S. Provisional Patent Application Concerning Topical Ointment for Vesicating Chemical Warfare Agents

AGENCY: Department of the Army, DoD.

ACTION: Notice.

SUMMARY: In accordance with 37 CFR 404.6 and 404.7, announcement is made of the availability for licensing of the invention described in U.S. Provisional Patent Application No. 60/439,919 entitled “Topical Ointment for Vesicating Chemical Warfare Agents,” filed January 14, 2003. The United States Government, as presented by the Secretary of the Army, has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The invention relates to a biologically active composition for treating sulfur mustard gas skin injuries and a method for treating the same.

Luz D. Ortiz,
Army Federal Register Liaison Officer.

[FR Doc. 03-8232 Filed 4-3-03; 8:45 am]

BILLING CODE 3710-08-M